NUCLEAR REGULATORY COMMISSION

[Docket No. 50-346]

License No. NPF-3: Firstenergy Nuclear Operating Company, Davis-Besse Nuclear Power Station, Unit 1; Receipt of Request for Action Under 10 CFR 2.206

Notice is hereby given that by petition dated April 24, 2002, David Lochbaum (petitioner) has requested on behalf of multiple organizations that the U.S. Nuclear Regulatory Commission (NRC) take action with regard to FirstEnergy Nuclear Operating Company, the owner of the Davis-Besse Nuclear Power Station. Specifically, the petitioners request that the NRC issue an order to FirstEnergy, requiring a verification by an independent party (VIP) for issues related to the reactor vessel head problem at Davis-Besse, Unit 1.

As the basis for this request, the petitioner states that the order issued by the NRC on August 14, 1996, to Northeast Nuclear Energy Company, the owner of the Millstone Nuclear Power Station in Connecticut, is a recent and relevant precedent for the action requested by the petitioners.

The request is being treated pursuant to 10 CFR 2.206 of the Commission's regulations. The request has been referred to the Director of the NRC's Office of Nuclear Reactor Regulation (NRR). As provided by Section 2.206, appropriate action will be taken on this petition within a reasonable time. The petitioners addressed the NRR Petition Review Board (PRB) on May 9, 2002, to discuss the petition. The results of that discussion were transcribed, considered in the PRB's determination regarding the petitioners' request and in establishing the schedule for the review of the petition, and are treated as a supplement to the petition. A copy of the petition and the supplements (Accession Numbers ML021260444 and ML021490065, respectively) are available for inspection at the Commission's Public Document Room (PDR), located at One White Flint North, 11555 Rockville Pike (first floor), Rockville, Maryland. A copy of FirstEnergy's response dated May 16, 2002, to the petition is also publicly available under Accession Number ML021410451. Publicly available records will be accessible from the NRC's Agencywide Documents Access and Management System (ADAMS) Public Electronic Reading Room on the internet at the NRC Web site, http://www.nrc.gov/reading-rm/adams.html. Persons who do not have access to ADAMS or who encounter problems in accessing the documents located in ADAMS, should contact the NRC's PDR Reference staff by telephone at 1-800-397-4209 or 301-415-4737, or by e-mail to pdr@nrc.gov.

Dated at Rockville, Maryland, this 4th day of June, 2002.
For the Nuclear Regulatory Commission
Samuel J. Collins,
Director, Office of Nuclear Reactor Regulation.

[FR Doc. 02-14741 Filed 6-11-02; 8:45 am]

BILLING CODE 7590-01-P